DEPARTMENT OF COMMERCE

International Trade Administration

A-423-808

Notice of Extension of Time Limit for Preliminary Results of Administrative Review: Stainless Steel Plate in Coils from Belgium

AGENCY: Import Administration, International Trade Administration, U.S. Department of Commerce.

EFFECTIVE DATE: December 28, 2004.

FOR FURTHER INFORMATION CONTACT: Toni Page or Thomas Gilgunn at (202) 482-1398 and (202) 482-4236, respectively; AD/CVD Operations, Office 6, Import Administration, International Trade Administration, U.S. Department of Commerce, 14th Street and Constitution Avenue, NW, Washington, DC 20230.

Background

On June 30, 2004, the Department of Commerce (the Department) initiated an administrative review of the antidumping duty order on stainless steel plate in coils from Belgium with respect to Ugine & ALZ, NV Belgium (U&A Belgium). See Notice of Initiation of Antidumping and Countervailing Duty Administrative Reviews and Requests for Revocation in Part, 69 FR 39409 (June 30, 2004). The period of review (POR) is May 1, 2003, through April 30, 2004.

Extension of Time Limits for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period. Due to the complexity of issues related to determining the appropriate quantity and value of sales to be reported by U&A Belgium, the Department finds that it is not practicable to complete this review by the current deadline of January 31, 2005. Consequently, in accordance with section 751(a)(3)(A) of the Act and section 351.213(h)(2) of the Department's regulations, the Department is extending the time limit for the completion of the preliminary results by 120 days, from January 31, 2005, until no later than May 31, 2005. The final results continue to be due 120 days after publication of the preliminary results. This notice is published pursuant to sections 751(a)(1) and 777(i)(1) of the Act.

Dated: December 20, 2004.
Barbara E. Tillman,
Acting Deputy Assistant Secretary for Import Administration.

[FR Doc. E4-3824 Filed 12-27-04; 8:45 am]

BILLING CODE 3510-DS-S